DEPARTMENT OF DEFENSE

Office of the Secretary

[Docket ID: DoD-2012-OS-0132]

Privacy Act of 1974; System of Records

AGENCY: Office of the Secretary of Defense, DoD.

ACTION: Notice to Amend a System of Records.

SUMMARY: The Office of the Secretary of Defense is amending a system of records notice in its existing inventory of record systems subject to the Privacy Act of 1974 (5 U.S.C. 552a), as amended.

DATES: This proposed action will be effective on November 29, 2012 unless comments are received which result in a contrary determination. Comments will be accepted on or before November 28, 2012.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense systems of records notices subject to the Privacy Act of 1974, (5 U.S.C. 552a), as amended, have been published in the Federal Register and are available from the address in FOR FURTHER INFORMATION CONTACT.

The Department of the Army proposes to amend one system in records notice from its inventory of record systems subject to the Privacy Act of 1974 (5 U.S.C. 552a), as amended. The proposed amendment is not within the purview of subsection (r) of the Privacy Act of 1974 (5 U.S.C. 552a), as amended, which requires the submission of a new or altered system report.

Dated: October 24, 2012.
Aaron Siegel,
Alternate OSD Federal Register Liaison Officer, Department of Defense.

DWHS E04

System name:

Privacy Act Case Files (December 8, 2010, 75 FR 76423).

Changes:

* * * * *

System location:

Delete entry and replace with “Washington Headquarters Services (WHS) records: Freedom of Information Division, Executive Services Directorate, Washington Headquarters Services, 4800 Mark Center Drive, Suite 02F09-02, Alexandria, VA 22350-3100.

DoD Education Activity (DoDEA) records: Department of Defense Education Activity, Privacy Act Office, Executive Services Office, Office of the Chief of Staff, 4800 Mark Center Drive, Suite 06D08-03, Alexandria, VA 22350-1400.

Assistant Secretary of Defense (Health Affairs)/TRICARE Management Activity (HA/TMA) and Uniformed Services University of Health Sciences (USUHS): TRICARE Management Activity, ATTN: Freedom of Information Act Requester Service Center, 16401 East Centretech Parkway, Aurora, CO 80011-9066.”

* * * * *

System manager(s) and address:

Delete entry and replace with “WHS records: Chief, OSD/JS Privacy Office, Office of Freedom of Information, Executive Services Directorate, Washington Headquarters Services, 4800 Mark Center Drive, Suite 02F09-02, Alexandria, VA 22350-3100.

DoDEA records: Chief, Department of Defense Education Activity, Privacy Office, Executive Services Office, Office of the Chief of Staff, 4800 Mark Center Drive, Suite 06D08-03, Alexandria, VA 22350-1400.

HA/TMA records: TRICARE Management Activity, Department of Defense, ATTN: TMA Privacy Officer, 16401 East Centretech Parkway, Aurora, CO 80011-9066.”

Notification procedure:

Delete entry and replace with “Individuals seeking to determine whether information about themselves is contained in this system of records should address written inquiries to:

WHS records: Chief, OSD/JS Privacy Office, Office of Freedom of Information, Executive Services Directorate, Washington Headquarters Services, 4800 Mark Center Drive, Suite 02F09-02, Alexandria, VA 22350-3100.

Written requests should include the individual's name.

DoDEA records: Chief, Department of Defense Education Activity, Privacy Act Office, Executive Services Office, Office of the Chief of Staff, 4800 Mark Center Drive, Suite 06D08-03, Alexandria, VA 22350-1400.

Written requests must include this system of records notice name and number, be in writing, signed, and for verification purposes provide evidence of the requester's identity such as a copy of a photo ID or passport or similar document bearing the requesters signature.

HA/TMA records: TRICARE Management Activity, Department of Defense, ATTN: TMA Privacy Officer, 16401 East Centretech Parkway, Aurora, CO 80011-9044.

Written requests should include the individual's name, mailing address and signature.”

Record access procedures:

Delete entry and replace with “Individuals seeking to access their record should address written inquiries to:

WHS records: OSD/JS Freedom of Information Requester Service Center, Office of Freedom of Information, Executive Services Directorate, Washington, Headquarters Services, 4800 Mark Center Drive, Suite 02F09-02, Alexandria, VA 22350-3100.

DoDEA records: Department of Defense Education Activity, Privacy Act Office, Executive Services Office, Office of the Chief of Staff, 4800 Mark Center Drive, Suite 06D08-03, Alexandria, VA 22350-1400.

HA/TMA records: TRICARE Management Activity, ATTN: Freedom of Information Act Requester Service Center, 16401 East Centretech Parkway, Aurora, CO 80011-9066.

Requests for access must include this system of records notice name and number, be in writing, signed, and for verification purposes provide evidence of the requester's identity such as a copy of a photo ID or passport or similar document bearing the requesters signature.

Additionally for DoDEA records: If a parent or legal guardian is requesting records pertaining to his or her minor child or ward, he/she must also provide evidence of that relationship. The parent may provide one of the following: A copy of the child's school enrollment form signed by the parent, a copy of a divorce decree or travel order that includes the child's name, an order of guardianship, or a declaration stating that he/she is the parent or legal guardian of the minor or incapacitated child.”

* * * * *

[FR Doc. 2012-26476 Filed 10-26-12; 8:45 am]

BILLING CODE 5001-06-P